FEDERAL COMMUNICATIONS COMMISSION

[WT Docket No. 07-108; DA 07-2183]

Jack R. Sharples, Application for New License in the Amateur Radio Service

AGENCY: Federal Communications Commission.

ACTION: Notice.

SUMMARY: In this document, the Commission initiates a hearing proceeding before a Commission Administrative Law Judge to determine whether an application for a new license in the Amateur Radio Service Station filed by Jack R. Sharples should be granted.

DATES: The document was mailed to the party on May 24, 2007.

ADDRESSES: Federal Communications Commission, 445 12th St., SW., Washington, DC 20554.

FOR FURTHER INFORMATION CONTACT: Gary Schonman, Enforcement Bureau, at Gary.Schonman@fcc.gov or (202) 418-1795 or TTY (202) 418-1152.

SUPPLEMENTARY INFORMATION: This is a summary of the Hearing Designation Order in WT Docket No. 07-108, DA 07-2183, adopted by the Commission's Wireless Telecommunications Bureau on May 23, 2007, and released on May 24, 2007. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: www.fcc.gov. Alternative formats are available to persons with disabilities by sending an e-mail to fcc504@fcc.gov or by calling the Consumer & Governmental Affairs Bureau at 202-418-0530 (voice), 202-418-0432 (tty).

Synopsis of the Order

1. In this Hearing Designation Order the Commission initiates a hearing proceeding before a Commission Administrative Law Judge to determine whether an application for a new license in the Amateur Radio Service filed by Jack R. Sharples should be granted. The record before the Commission indicates that Sharples is a convicted felon and registered sexual predator, which raises a substantial and material question of fact as to whether Castle possesses the requisite character qualification to be and remain a Commission licensee. Because we are unable to make a determination on the record currently before us that grant of Sharples's application to renew his amateur license would serve the public interest, convenience, and necessity, we hereby designate the application for hearing, as required by 47 U.S.C. 309(e) of the Communications Act of 1934, as amended.

2. Pursuant to sections 4(i) and 309(e) of the Communications Act of 1934, as amended, 47 U.S.C. 154(i), and 309(e), the captioned application IS DESIGNATED FOR HEARING in a proceeding before an FCC Administrative Law Judge, at a time and place to be specified in a subsequent Order, upon the following issues:

(a) To determine the effect of Jack R. Sharples's felony adjudication(s) on his qualifications to be licensed by the Commission.

(b) In light of the evidence adduced pursuant to the foregoing issue, to determine whether Jack R. Sharples is qualified to be a Commission licensee.

(c) In light of the evidence adduced pursuant to the foregoing issues, to determine whether the captioned application filed by Jack R. Sharples should be granted.

2. Pursuant to section 4(i) of the Communications Act of 1934, as amended, 47 U.S.C. 154(i), and § 1.221(c) of the Commission's rules, 47 CFR 1.221(c), in order to avail himself of the opportunity to be heard, Jack R. Sharples, in person or by his attorney, SHALL FILE with the Commission, within twenty days of the mailing of this Hearing Designation Order to him, a written appearance stating that he will appear on the date fixed for hearing and present evidence on the issues specified herein.

3. Pursuant to § 1.221(c) of the Commission's Rules, 47 CFR 1.221(c), if Jack R. Sharples fails to file a written appearance within the twenty-day period, or has not filed prior to the expiration of the twenty-day period, a petition to dismiss without prejudice, or a petition to accept, for good cause shown, a written appearance beyond the expiration of the twenty-day period, the Presiding Administrative Law Judge SHALL DISMISS the captioned application with prejudice for failure to prosecute.

4. The Chief, Enforcement Bureau, shall be made a party to this proceeding without the need to file a written appearance.

5. Pursuant to sections 4(i) and 309(e) of the Communications Act of 1934, as amended, 47 U.S.C. 154(i), and 309(e), the burden of proceeding with the introduction of evidence and the burden of proof with respect to all of the issues specified above SHALL BE on Jack R. Sharples.

6. A copy of this Hearing Designation Order or a summary thereof SHALL BE PUBLISHED in the Federal Register.

7. This action is taken under delegated authority pursuant to §§ 0.131 and 0.331 of the Commission's Rules, 47 CFR 0.131, 0.331.

Federal Communications Commission.
Scot Stone,
Deputy Chief, Mobility Division.

[FR Doc. E7-11243 Filed 6-12-07; 8:45 am]

BILLING CODE 6712-01-P